FEDERAL ELECTION COMMISSION

11 CFR Parts 104, 107, 110, 9003, 9004, 9008, 9032 Through 9036, and 9038

[Notice 2003-10]

Extension of Public Comment Period for Public Financing of Presidential Candidates and Nominating Conventions

AGENCY: Federal Election Commission.

ACTION: Proposed rule; reopening of public comment period.

SUMMARY: This notice extends the public comment period on the Federal Election Commission's notice of proposed rulemaking on public financing of presidential candidates and nominating conventions to May 23, 2003. The Commission will hold a hearing on the proposed rules on June 6, 2003, at 10 a.m.

DATES: Comments must be received on or before May 23, 2003. The Commission will hold a hearing on the proposed rules for June 6, 2003, at 10 a.m., if it receives sufficient requests to testify. Commenters wishing to testify at the hearing must so indicate in their written or electronic comments.

ADDRESSES: All comments should be addressed to Ms. Mai T. Dinh, Acting Assistant General Counsel, and must be submitted in either electronic or written form. Electronic mail comments should be sent to pubfund2004@fec.gov and must include the full name, electronic mail address and postal service address of the commenter. Electronic mail comments that do not contain the full name, electronic mail address and postal service address of the commenter will not be considered. If the electronic mail comments include an attachment, the attachment must be in the Adobe Acrobat (.pdf) or Microsoft Word (.doc) format. Faxed comments should be sent to (202) 219-3923, with printed copy follow-up to ensure legibility. Written comments and printed copies of faxed comments should be sent to the Federal Election Commission, 999 E Street, NW., Washington, DC 20463. Commenters are strongly encouraged to submit comments electronically to ensure timely receipt and consideration. The Commission will make every effort to post public comments on its Web site within 10 business days of the close of the comment period. The hearing will be held in the Commission's ninth floor meeting room, 999 E Street, NW., Washington, DC.

FOR FURTHER INFORMATION CONTACT: J. Duane Pugh Jr., Senior Attorney, 999 E Street, NW., Washington, DC, 20463, (202) 694-1650 or (800) 424-9530.

SUPPLEMENTARY INFORMATION: The Federal Election Commission recently requested comment on proposed changes to its rules governing publicly financed presidential candidates, in both the primary and general elections, and national nominating conventions. See Notice of Proposed Rulemaking on Public Financing of Presidential Candidates and Nominating Conventions, 68 FR 18484 (Apr. 15, 2003) (“Public Financing NPRM”). The document states that the public comment period closed on May 9, 2003, and a hearing on the proposed rules was tentatively scheduled for May 19, 2003. On May 2, 2003, the United States District Court for the District of Columbia issued a decision in McConnell v. FEC, Civ. No. 02-582, 2003 WL 21003144 (D.D.C. May 1, 2003), notice of appeal filed (U.S. May 2, 2003), which addresses certain provisions of the Bipartisan Campaign Reform Act of 2002, Public Law 107-155, 116 Stat. 81 (Mar. 27, 2002). A portion of the notice of proposed rulemaking concerned the application of the Bipartisan Campaign Reform Act and the Commission's implementing regulations to national nominating conventions. See Public Financing NPRM, 68 FR at 18502-07. In order to permit commenters the opportunity to consider the McConnell v. FEC decision and its impact on national nominating conventions, the Commission is extending the comment period until May 23, 2003, and rescheduling the hearing on the proposed rules to June 6, 2003, at 10 a.m.

Dated: May 8, 2003.
Ellen L. Weintraub,
Chair, Federal Election Commission.

[FR Doc. 03-11978 Filed 5-14-03; 8:45 am]

BILLING CODE 6715-01-P